DEPARTMENT OF DEFENSE

Department of the Army

Notice of Intent To Grant Exclusive Patent License to Fox Materials Consulting, LLC; Colorado Springs, CO

AGENCY: Department of the Army, DoD.

ACTION: Notice of intent.

SUMMARY: The Department of the Army hereby gives notice of its intent to grant to Fox Materials Consulting, LLC; a corporation having its principle place of business at 7145 Baker Rd., Colorado Springs, CO 80908, an exclusive license.

DATES: Written objections must be filed not later than 15 days following publication of this announcement.

ADDRESSES: Send written objections to U.S. Army Research Laboratory Technology Transfer and Outreach Office, RDRL-DPT/Thomas Mulkern, Building 321 Room 110, Aberdeen Proving Ground, MD 21005-5425.

FOR FURTHER INFORMATION CONTACT: Thomas Mulkern, (410) 278-0889, E-Mail: ORTA@arl.army.mil

SUPPLEMENTARY INFORMATION: The Department of the Army plans to grant an exclusive license to Fox Materials Consulting, LLC, in all fields relative to the following:

• “Ferroelectric Mechanical Memory and Method”, US Patent No.: 9,385,306, Filing Date March 12, 2015, Issue Date July 5, 2016.

• “Ferroelectric Mechanical Memory Based on Remanant Displacement and Method”, US Patent Application No.: 15/131,881, Filing Date April 18, 2016.

• “Ferroelectric Mechanical Memory and Method”, US Patent Application No.: 15/200,816, Filing Date July 1, 2016.

The prospective exclusive license may be granted unless within fifteen (15) days from the date of this published notice, the U.S. Army Research Laboratory receives written objections including evidence and argument that establish that the grant of the license would not be consistent with the requirements of 35 U.S.C. 209(e) and 37 CFR 404.7(a)(1)(i). Competing applications completed and received by the U.S. Army Research Laboratory within fifteen (15) days from the date of this published notice will also be treated as objections to the grant of the contemplated exclusive license.

Objections submitted in response to this notice will not be made available to the public for inspection and, to the extent permitted by law, will not be released under the Freedom of Information Act, 5 U.S.C. 552.

Brenda S. Bowen,
Army Federal Register Liaison Officer.

[FR Doc. 2016-27167 Filed 11-9-16; 8:45 am]

BILLING CODE 5001-03-P